DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2011 Government Units Survey.

OMB Control Number: 0607-0930.

Form Number(s): GUS-1.

Type of Request: Reinstatement, with change, of an expired collection.

Burden Hours: 57,375.

Number of Respondents: 76,500.

Average Hours per Response: 45 minutes.

Needs and Uses: The 2011 Government Units Survey will be used to update the universe list of public sector entities for the 2012 Census of Governments. Each of the estimated 76,500 non-school governments will be sent a form. Respondents will be asked to verify or correct the name and mailing address of the government, answer the questions on the form, and return the form.

The directory survey for the 2007 Census of Governments, form G-30, was mailed to special district governments only. The form collected only basic information on the governing board, authorizing legislation, the Web address, agency activity, and employment and payroll data. The employment and payroll data were used in lieu of a response to the March 2007 Census of Governments: Employment, for special district governments. The Government Units Survey (GUS) collects more data and will be mailed to municipalities, townships, counties, and special districts. The GUS-1 consists of nine broad content areas: background information, debt, license and permit fees, taxes, retirement/pension plan, government activity, public services, judicial or legal activities, and finance. The first eight content areas consist predominantly of yes/no questions and are designed to collect information on the general characteristics of the government. The finance section of the questionnaire requests four numerical values: payroll, expenditures, revenues, and debt.

The GUS will be used to produce the official count of local government units in the United States; to obtain descriptive information on the basic characteristics of governments; to identify and delete inactive units from the official list of public entities maintained by the Governments Division of the Census Bureau; to identify file duplicates and units that were dependent on other governments; and to update and verify the mailing addresses of governments. The basic characteristics collected with the GUS will allow us to reduce the burden on small governments by improving small area estimates and imputation methods from a smaller sample size.

Affected Public: State, local or Tribal governments.

Frequency: Every 5 years.

Respondent's Obligation: Voluntary.

Legal Authority: Title 13, Section 161, of the United States Code.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 2, 2011.
Glenna Mickelson,
Management Analyst, Office of the Chief Information Officer.

[FR Doc. 2011-19883 Filed 8-4-11; 8:45 am]

BILLING CODE 3510-07-P